DEPARTMENT OF DEFENSE

Office of the Secretary

[Docket ID: DOD-2011-OS-0084]

Privacy Act of 1974; System of Records

AGENCY: Office of the Inspector General, Department of Defense.

ACTION: Notice to add a system of records.

SUMMARY: The Office of the Inspector General proposes to add a system of records to its inventory of record systems subject to the Privacy Act of 1974 (5 U.S.C. 552a), as amended.

DATES: The proposed action will be effective on September 8, 2011 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160. Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tanya Layne, Office of the Inspector General, 400 Army Navy Drive, Arlington, Virginia 22202-4704, or by phone at (703) 604-9779.

SUPPLEMENTARY INFORMATION: The Office of the Inspector General notices for systems of records subject to the Privacy Act of 1974 (5 U.S.C. 552a), as amended, have been published in the Federal Register and are available from the address in FOR FURTHER INFORMATION CONTACT. The proposed systems reports, as required by 5 U.S.C. 552a(r) of the Privacy Act, were submitted on June 28, 2011 to the House Committee on Oversight and Government Reform, the Senate Committee on Homeland Security and Governmental Affairs, and the Office of Management and Budget (OMB) pursuant to paragraph 4c of Appendix I to OMB Circular No. A-130, “Federal Agency Responsibilities for Maintaining Records about Individuals,” dated February 8, 1996, (February 20, 1996, 61 FR 6427).

Dated: August 2, 2011.
Aaron Siegel,
Alternate OSD Federal Register Liaison Officer, Department of Defense.

CIG-26

System Name:

Case Control System—Investigative

System Location:

Department of Defense Office of the Inspector General (DoD OIG), Office of the Assistant Inspector General, Office of Professional Responsibility (OPR), 400 Army Navy Drive, Arlington, VA 22202-4704.

Categories of individuals covered by the system:

Persons and/or activities within the DoD community which is or has been the subject of an OIG OPR investigation.

Categories of records in the system:

Individual's names, Social Security Number (SSN), address, case control number, records of investigations to include Reports of Investigation and Information Reports, which are being or have been conducted by the OIG OPR.

Authority for maintenance of the system:

DoD Directive 5106.1, Inspector General of the Department of Defense; Inspector General Act of 1978, (Pub. L. 452), as amended; and E.O. 9397 (SSN), as amended.

Purpose(s):

Open and closed case listings used to manage investigations, to produce statistical reports, and to control various aspects of the investigative process.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To the U.S. Secret Service in conjunction with the protection of persons under its jurisdiction.

To other Federal, State, Tribal or local agencies having jurisdiction over the substance of the allegations or a related investigative interest in criminal law enforcement investigations, including statutory violations, counter-intelligence, counter-espionage and counter-terrorist activities and other security matters.

To other Federal Inspector General offices, the Council of the Inspectors General on Integrity and Efficiency (CIGIE), and/or other Federal law enforcement agencies for the purpose of coordinating and conducting administrative inquiries and civil and criminal investigations, or when responding to such offices, Council, and agencies in connection with the investigation of potential violations of law, rule, and/or regulation.

To other Federal Inspector General offices, the CIGIE, and/or the Department of Justice for purposes of conducting external reviews to ensure that adequate internal safeguards and management procedures continue to exist within the DoD OIG.

To State, Territorial, and District of Columbia, and Commonwealth Attorney Generals and their respective employees, for statistical purposes or evidentiary documentation in connection with their agency investigation(s).

To State, Territorial, Commonwealth, County, or City law enforcement officials and their respective employees, for statistical purposes or evidentiary documentation in connection with their agency investigation(s).

The DoD “Blanket Routine Uses” set forth at the beginning of the DoD OIG's compilation of systems of records notices also apply to this system.

Policies and practices for storing, retrieving, accessing, retaining, and disposing of records in the system:

Storage:

Records are stored in file folders and on electronic storage media.

Retrievability:

Records are retrieved by individual's name, Social Security Number (SSN), or case control number.

Safeguards:

Computerized records maintained in a controlled area are accessible only to authorized personnel. Physical entry is restricted by the use of locks, guards, and is accessible only to authorized personnel. Physical and electronic access is restricted to designated individuals having a need therefore in the performance of official duties and who are properly screened and cleared for need-to-know. Electronic data system is password and Common Access Card (CAC) protected.

Retention and disposal:

Electronic records are retained indefinitely for statistical purposes. Paper copies of records are retained permanently and retired to the Washington National Records Center 3 years after case closure.

System manager(s) and address:

Office of the Inspector General of the Department of Defense, Office of the Assistant Inspector General, Office of Professional Responsibility, 400 Army Navy Drive, Arlington, VA 22202-4704.

Notification procedure:

Individuals seeking to determine whether information about themselves is contained in this system should address written inquiries to the Freedom of Information Act Requester Service Center/Privacy Act Office, Room 1021, 400 Army Navy Drive, Arlington, VA 22202-4704.

Written requests should contain the individual's full name (including former names and aliases), and Social Security Number (SSN), current home address, telephone number, and the request must be signed.

Record access procedures:

Individuals seeking access to information about themselves contained in this system should address written inquiries to the Freedom of Information Act Requester Service Center/Privacy Act Office, Room 1021, 400 Army Navy Drive, Arlington, VA 22202-4704.

Written requests should contain the individual's full name (including former names and aliases), and SSN, current home address, telephone number, and the request must be signed.

Contesting record procedures:

The DoD OIG's rules for accessing records and for contesting contents and appealing initial agency determinations are published in 32 CFR part 312 or may be obtained from the system manager.

Record source categories:

Office of Inspector General System Administrators.

Exemptions claimed for the system:

Parts of this system may be exempt pursuant to 5 U.S.C. 552a(j)(2) if the information is compiled and maintained by a component of the agency that performs as its principle function any activity pertaining to the enforcement of criminal laws.

An exemption rule for this record system has been promulgated in accordance with the requirements of 5 U.S.C. 553(b)(1), (2), and (3), (c) and (e) and published in 32 CFR part 312. For additional information contact the system manager.

[FR Doc. 2011-20080 Filed 8-8-11; 8:45 am]

BILLING CODE 5001-06-P